DEPARTMENT OF ENERGY

Federal Energy Regulatory Commission

Notice of Application Accepted for Filing, Notice Soliciting Motions To Intervene and Protests, and Notice Soliciting Comments, Final Terms and Conditions, Recommendations and Prescriptions

March 15, 2000.

Take notice that the following hydroelectric application has been filed with the Commission and is available for public inspection:

a. Type of Application: New Major License.

b. Project No.: 2016-044.

c. Date filed: December 27, 1999.

d. Applicant: City of Tacoma.

e. Name of Project: Cowlitz River Hydroelectric Project.

f. Location: On the Cowlitz River, in Lewis County, Washington. About 5 acres are included within the Gifford Pinchot National Forest and about 59 acres are on lands owned by the Bureau of Land Management.

g. Filed Pursuant to: Federal Power Act 16 U.S.C. 791(a)-825(r).

h. Applicant Contact: Toby Freeman, Tacoma Power, 3628 South 35th Street, Tacoma, WA 98411; (253) 502-8862.

i. FERC Contact: David Turner (202) 219-2844, Email: david.turner@ferc.fed.us.

j. Deadline for filing interventions, protests, comments, recommendations, terms and conditions, and prescriptions: 60 days from the issuance date of this notice.

All documents (original and eight copies) should be filed with David P. Boergers, Secretary, Federal Energy Regulatory Commission, 888 First Street, NE, Washington, DC 20426.

The Commission's Rules of Practice and Procedure require all intervenors filing documents with the Commission to serve a copy of that document on each person whose name appears on the official service list for the project. further, if an intervenor files comments or documents with the Commission relating to the merits of an issue that may affect the responsibilities of a particular resource agency, they must also serve a copy of the document on that resource agency.

k. Brief Project Description: The 462-megawatt (MW) project consists of the following: (1) 606-foot-high, 1,300-foot-long Mossyrock Dam and powerhouse containing two generating units with a combined capacity of 300 MW; (2) 11,830-acre Riffe Lake at maximum operating pool elevation of 778.5 feet; (3) 250-foot-high, 850-foot-long Mayfield Dam and powerhouse containing four generating units with a combined capacity of 162 MW; (4) 2,250-acre Mayfield Lake at maximum operating pool elevation of 425 feet; (5) 17.9 miles of 230-kilovolt transmission line; (6) Cowlitz Salmon Hatchery; (7) a 400-foot-long, 28-foot-high zoned earthen embankment that connects to a 320-foot-long, 12-foot-high concrete fish barrier at the Cowlitz Salmon Hatchery, known as Barrier Dam; (8) Cowlitz Trout Hatchery; (9) Mossyrock Park; (10) Taidnapam Park; and other associated facilities.

l. Locations of the application: A copy of the application is available for inspection and reproduction at the Commission's Public Reference Room, located at 888 First Street, NE, Room 2A, Washington, DC 20426, or by calling (202) 208-1371. The application may be viewed on the web at http://www.ferc.fed.us/online/rims.htm (call (202) 208-2222 for assistance). A copy is also available for inspection and reproduction at the address in item h above.

m. Comments, Protests, or Motions to Intervene—Anyone may submit comments, a protest, or a motion to intervene in accordance with the requirements of Rules of Practice and Procedures, 18 CFR 385.210, 385.211, 385.214. In determining the appropriate action to take, the Commission will consider all protests or other comments filed, but only those who file a motion to intervene in accordance with the Commission's Rules may become a party to the proceeding. Any comments, protest, or motions to intervene must be received on or before the specified comment date for the particular application.

n. Filing and Service of Response Documents—The Commission is requesting final comments on the applicant's application and draft environmental assessment, final reply comments, final recommendations, terms and conditions, and prescriptions.

The Commission directs, pursuant to Section 4.34(b) of the regulations (see Order No. 533 issued May 8, 1991, 56 FR 23108, May 20, 1991) that all comments, recommendations, terms and conditions, and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) bear in all capital letters the title “PROTEST,” “MOTION TO INTERVENE,” “COMMENTS,” “REPLY COMMENTS,” “RECOMMENDATIONS,” “TERMS AND CONDITIONS,” “OR PRESCRIPTIONS;” (2) set forth in the heading the name of the applicant and the project number of the application to which the filing responds; (3) furnish the name, address, and telephone number of the person protesting or intervening; (4) otherwise comply with the requirements of 18 CFR 385.2001 through 385.2005. All comments, recommendations, terms and conditions or prescriptions must set forth their evidentiary basis; and otherwise comply with the requirements of 18 CFR 4.34(b). Agencies may obtain copies of the application directly from the applicant. Any of these documents must be filed by providing the original and the number of copies required by the Commission's regulations to: The Secretary, Federal Energy Regulatory Commission, 888 First Street, NE, Washington, DC 20426. A copy of any protest or motion to intervene must be served upon each representative of the applicant specified in the particular application.

A copy of all other filings in reference to this application must be accompanied by proof of service on all persons listed in the service list prepared by the Commission in this proceeding, in accordance with 18 CFR 4.34(b) and 385.2010.

Linwood A. Watson, Jr.,
Acting Secretary.

[FR Doc. 00-6887 Filed 3-20-00; 8:45 am]

BILLING CODE 6717-01-M